DEPARTMENT OF COMMERCE

Foreign-Trade Zones Board

[Docket 14-2010]

Foreign-Trade Zone 70—Detroit, MI: Application for Expansion Correction

The Federal Register notice published on March 11, 2010 (75 FR 11514) describing the expansion of FTZ 70, Detroit, Michigan, is corrected as follows:

In paragraph 3, Proposed Site 34 should be Proposed Site 35 and Proposed Site 35 should be Proposed Site 36.

Dated: March 23, 2010.
Andrew McGilvray,
Executive Secretary.

[FR Doc. 2010-7074 Filed 3-29-10; 8:45 am]

BILLING CODE P